ENVIRONMENTAL PROTECTION AGENCY

40 CFR Parts 51, 52, 96, and 97

[FRL-7170-9]

Interstate Ozone Transport: Response to Court Decisions on the NOX SIP Call, NOX SIP Call Technical Amendments, and Section 126 Rules

AGENCY: Environmental Protection Agency (EPA).

ACTION: Proposed rule; extension of comment period.

SUMMARY: Today, EPA is extending the closing date of the public comment period regarding EPA's notice of proposed rulemaking “Interstate Ozone Transport: Response to Court Decisions on the NOX SIP Call, NOX SIP Call Technical Amendments, and Section 126 Rules,” published February 22, 2002 at 67 FR 8395. The original comment period was to close on April 15, 2002. The new closing date will be April 29, 2002. The EPA received a request to extend the comment period due to the complexity of the issues surrounding the actions EPA is proposing to take. We find it appropriate to provide additional time for interested and affected parties to submit comments. All comments received by EPA on or prior to April 29, 2002 will be considered in the development of a final rule.

DATES: All comments regarding EPA's notice of proposed rulemaking issued on February 22, 2002 must be postmarked, faxed, or e-mailed to EPA on or before close of business April 29, 2002 instead of April 15, 2002.

ADDRESSES: Comments (in duplicate if possible) may be submitted to the Office of Air and Radiation Docket and Information Center (6102), Attention: Docket No. A-96-56, U.S. Environmental Protection Agency, 1200 Pennsylvania Avenue, NW, Washington, DC 20460, telephone (202) 260-7548, fax (202) 260-4400, and e-mail A-and-R-docket@epa.gov. We encourage electronic submissions of comments and data following the instructions under SUPPLEMENTARY INFORMATION of this document. No confidential business information should be submitted through e-mail.

Documents relevant to this action, including the proposed notice, are available for inspection at the U.S. Environmental Protection Agency, 401 M Street, SW, Waterside Mall, Room M-1500, Washington, DC 20460, between 8 a.m. and 5:30 p.m., Monday through Friday, excluding legal holidays. A reasonable fee may be charged for copying.

FOR FURTHER INFORMATION CONTACT: General questions concerning today's action should be addressed to Jan King, Office of Air Quality Planning and Standards, Air Quality Strategies and Standards Division, C539-02, Research Triangle Park, NC 27711, telephone (919) 541-5665, e-mail king.jan@epa.gov.

SUPPLEMENTARY INFORMATION: The proposed rule (67 FR 8395) addresses the issues remanded or vacated for notice-and-comment rulemaking by the D.C. Circuit in Michigan v. EPA, 213 F.3d 663 (D.C. Cir. 2000), cert. denied, 121 S. Ct. 1225, 149 L. ED. 135 (2001), which concerned the NOX SIP Call (the “SIP call case”); Appalachian Power v. EPA, 251 F.3d 1026 (D.C. Cir. 2001), which concerned the technical amendments rulemakings for the NOX SIP Call (the “Technical Amendments case”); and Appalachian Power v. EPA, 249 F.3d 1042 (D.C. Cir. 2001) and Appalachian Power v. EPA, No.99-1200, Order (D.C. Cir., August 24, 2001), which concerned the section 126 rulemaking (the “Section 126 case”).

In the proposed rule, EPA proposed to:

(1) Retain the definition of EGUs as it relates to cogeneration units in the NOX SIP Call and in the Section 126 Rule, and retain the definition of EGUs as it relates to cogeneration units in the NOX SIP Call with only minor revisions to make the definition consistent with the Section 126 Rule;

(2) revise the control levels for stationary internal combustion engines that were assumed in calculating NOX SIP call budgets for each State;

(3) exclude portions of Georgia, Missouri, Alabama and Michigan from the NOX SIP Call (the court ruling focused on Georgia and Missouri, but the same issue is relevant to Alabama and Michigan);

(4) revise statewide emissions budgets in the NOX SIP Call to reflect the disposition of the first three issues above;

(5) set a range of dates for 19 States and the District of Columbia to submit State implementation plans to achieve the emissions reductions required by this second phase of the NOX SIP Call, and for Georgia and Missouri to submit SIPs meeting the full NOX SIP Call: 6 months through 1 year from final promulgation of this rulemaking but no later than April 1, 2003;

(6) set a compliance date of May 31, 2004, for all sources except those in Georgia and Missouri; and sources in those two States would have a May 1, 2005 compliance date; and

(7) exclude Wisconsin from NOX SIP Call requirements at this time.

The comment period provided in the proposed rule was to close on April 15, 2002. Today's action extends the date by which the comment period closes to April 29, 2002.

Dated: April 5, 2002.
Robert Brenner,
Acting Assistant Administrator, Office of Air and Radiation.

[FR Doc. 02-8929 Filed 4-11-02; 8:45 am]

BILLING CODE 6560-50-P